DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revisions and a three-year extension to the Forms: EIA-851A, “Domestic Uranium Production Report (Annual),” EIA-851Q, “Domestic Uranium Production Report (Quarterly),” and EIA-858, “Uranium Marketing Annual Survey.”

DATES: Comments must be filed by June 29, 2009. If you anticipate difficulty in submitting comments within that period, contact the person listed below as soon as possible.

ADDRESSES: Send comments to Mr. Glenn McGrath. To ensure receipt of the comments by the due date, submission by FAX (202-287-1946) or e-mail Mr. McGrath at glenn.mcgrath@eia.doe.gov is recommended. The mailing address is Energy Information Administration, CNRD, EI-52, Forrestal Building, U.S. Department of Energy, 1000 Independence Ave., SW., Washington, DC 20585. Alternatively, Mr. Glenn McGrath may be contacted by telephone at 202-586-4325.

FOR FURTHER INFORMATION CONTACT: Requests for additional information or copies of any forms and instructions should be directed to Mr. Glenn McGrath at the address listed above. To review the proposed forms and instructions, please visit: http://www.eia.doe.gov/cneaf/nuclear/page/nuc_survey_auth.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. 3501 et seq.), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The EIA collects information about the uranium fuel cycle for use by government and private sector analysts. The survey information is disseminated in a variety of electronic products and files. For details on the EIA uranium program, please visit the nuclear page of the EIA Internet site at http://www.eia.doe.gov/fuelnuclear.html.

II. Current Actions

The EIA proposes the following changes:

For the EIA-851Q, EIA proposes no changes to the data items.

For the EIA-851A the principal change is the addition of Item 8, Reserves Estimate. This new item collects data on the amount of uranium reserves on U.S properties. This item will also collect location data on the properties that hold uranium along with data that collects how the resource data was determined. Among the properties for which this data will be collected are active and inactive mines and properties that can be developed for uranium production. This change is not expected to change the number of respondents that currently complete the form.

This additional data should provide a better understanding of the amount of uranium reserves at properties that are being actively worked and those that can be developed for uranium production. The reserves will be grouped according to their forward cost classification, which will provide insight on the domestic reserves that can be accessed under different uranium price conditions.

For the EIA-858, the principal change affects Item 2, Total Uranium Inventories. This item is being separated into two parts, A and B. In Item 2, Part A, a new data element, location, is being added to the Domestic-Origin and Foreign-Origin fields to allow for a better understanding of the physical location of the inventory component. Item 2, Part B, Import/Export Balance is being added to determine the amount of an inventory component that has been imported and the amount that has been exported so that a net domestic mass balance can be determined. The benefit of this change is to better understand the material flow, including the size and location of the materials along the uranium processing chain. This data should enable industry observers to more accurately assess the quantity of uranium transfers into, out of, and within the U.S.

III. Request for Comments

Prospective respondents and other interested parties should comment on the proposals discussed in Item II. The following guidelines are provided to assist in the preparation of comments. Please indicate the form(s) to which your comments apply.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the due dates?

E. Public reporting burden per response are estimated as follows: EIA-851—5 hours; EIA-851Q—0.75 hours; and EIA-858—18 hours.

F. The agency estimates that the only cost to a respondent is the time to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC: April 23, 2009.
Stanley R. Freedman,
Acting Director, Statistics and Methods Group, Energy Information Administration.

[FR Doc. E9-9761 Filed 4-28-09; 8:45 am]

BILLING CODE 6450-01-P